Proclamation 7265 of January 11, 2000

Establishment of the Grand Canyon-Parashant National Monument

By the President of the United States of America

A Proclamation

The Grand Canyon-Parashant National Monument is a vast, biologically diverse, impressive landscape encompassing an array of scientific and historic objects. This remote area of open, undeveloped spaces and engaging scenery is located on the edge of one of the most beautiful places on earth, the Grand Canyon. Despite the hardships created by rugged isolation and the lack of natural waters, the monument has a long and rich human history spanning more than 11,000 years, and an equally rich geologic history spanning almost 2 billion years. Full of natural splendor and a sense of solitude, this area remains remote and unspoiled, qualities that are essential to the protection of the scientific and historic resources it contains.

The monument is a geological treasure. Its Paleozoic and Mesozoic sedimentary rock layers are relatively undeformed and unobscured by vegetation, offering a clear view to understanding the geologic history of the Colorado Plateau. Deep canyons, mountains, and lonely buttes testify to the power of geological forces and provide colorful vistas. A variety of formations have been exposed by millennia of erosion by the Colorado River. The Cambrian, Devonian, and Mississippian formations (Muav Limestone, Temple Butte Formation, and the Redwall Limestone) are exposed at the southern end of the lower Grand Wash Cliffs. The Pennsylvanian and Permian formations (Calville Limestone, Esplanade Sandstone, Hermit Shale, Toroweap Formation, and the Kaibab Formation) are well exposed within the Parashant, Andrus, and Whitmore Canyons, and on the Grand Gulch Bench. The Triassic Chinle and Moenkopi Formations are exposed on the Shivwits Plateau, and the purple, pink, and white shale, mudstone, and sandstone of the Triassic Chinle Formation are exposed in Hells Hole.

The monument encompasses the lower portion of the Shivwits Plateau, which forms an important watershed for the Colorado River and the Grand Canyon. The Plateau is bounded on the west by the Grand Wash Cliffs and on the east by the Hurricane Cliffs. These cliffs, formed by large faults that sever the Colorado Plateau slicing north to south through the region, were and are major topographic barriers to travel across the area. The Grand Wash Cliffs juxtapose the colorful, lava-capped Precambrian and Paleozoic strata of the Grand Canyon against the highly faulted terrain, recent lake beds, and desert volcanic peaks of the down-dropped Grand Wash trough. These cliffs, which consist of lower and upper cliffs separated by the Grand Gulch Bench, form a spectacular boundary between the basin and range and the Colorado Plateau geologic provinces. At the south end of the Shivwits Plateau are several important tributaries to the Colorado River, including the rugged and beautiful Parashant, Andrus, and Whitmore canyons. The Plateau here is capped by volcanic rocks with an array of cinder cones and basalt flows, ranging in age from 9 million to only about 1000 years old. Lava from the Whitmore and Toroweap areas flowed into the Grand Canyon and dammed the river many times over the past several million years. The monument is pocketed with sinkholes and breccia pipes, structures associated with volcanism and the collapse of underlying rock layers through ground water dissolution.

Fossils are abundant in the monument. Among these are large numbers of invertebrate fossils, including bryozoans and brachiopods located in the Calville limestone of the Grand Wash Cliffs, and brachiopods, pelecypods, fenestrate bryozoa, and crinoid ossicles in the Toroweap and Kaibab formations of Whitmore Canyon. There are also sponges in nodules and pectenoid pelecypods throughout the Kaibab formation of Parashant Canyon.

The Grand Canyon-Parashant National Monument contains portions of geologic faults, including the Dellenbaugh fault, which cuts basalt flows dated 6 to 7 million years old, the Toroweap fault, which has been active within the last 30,000 years, the Hurricane fault, which forms the Hurricane Cliffs and extends over 150 miles across northern Arizona and into Utah, and the Grand Wash fault, which bounds the west side of the Shivwits Plateau and has approximately 15,000 feet of displacement across the monument.

Archaeological evidence shows much human use of the area over the past centuries. Because of their remoteness and the lack of easy road access, the sites in this area have experienced relatively little vandalism. Their good condition distinguishes them from many prehistoric resources in other areas. Prehistoric use is documented by irreplaceable rock art images, quarries, villages, watchtowers, agricultural features, burial sites, caves, rockshelters, trails, and camps. Current evidence indicates that the monument was utilized by small numbers of hunter-gatherers during the Archaic Period (7000 B.C. to 300 B.C.). Population and utilization of the monument increased during the Ancestral Puebloan Period from the Basketmaker II Phase through the Pueblo II Phase (300 B.C. to 1150 A.D.), as evidenced by the presence of pit houses, habitation rooms, agricultural features, and pueblo structures. Population size decreased during the Pueblo III Phase (1150 A.D. to 1225 A.D.). Southern Paiute groups replaced the Pueblo groups and were occupying the monument at the time of Euro-American contact. Archeological sites in the monument include large concentrations of ancestral Puebloan (Anasazi or Hitsatsinom) villages, a large, intact Pueblo II village, numerous archaic period archeological sites, ancestral Puebloan sites, and Southern Paiute sites. The monument also contains areas of importance to existing Indian tribes.

In 1776, the Escalante-Dominguez expedition of Spanish explorers passed near Mount Trumbull. In the first half of the 19th century, Jedediah Smith, Antonio Armiijo, and John C. Fremont explored portions of this remote area. Jacob Hamblin, a noted Mormon pioneer, explored portions of the Shivwits Plateau in 1858 and, with John Wesley Powell, in the 1870s. Clarence Dutton completed some of the first geological explorations of this area and provided some of the most stirring written descriptions. Having traversed this area by wagon at the request of the territorial legislature, Sharlot Hall recommended it for inclusion within the State of Arizona when it gained Statehood in 1912. Early historic sawmills provided timber that was hauled 70 miles along the Temple Trail wagon road from Mt. Trumbull down the Hurricane Cliffs to St. George, Utah. Ranch structures and corrals, fences, water tanks, and the ruins of sawmills are scattered across the monument and tell the stories of the remote family ranches and the lifestyles of early homesteaders. There are several old mining sites dating from the 1870s, showing the history of mining during the late 19th and early 20th centuries. The remote and undeveloped nature of the monument protects these historical sites in nearly their original context.

The monument also contains outstanding biological resources preserved by remoteness and limited travel corridors. The monument is the junction of two physiographic ecoregions: the Mojave Desert and the Colorado Plateau. Individually, these regions contain ecosystems extreme to each other, ranging from stark, arid desert to complex, dramatic higher elevation plateaus, tributaries, and rims of the Grand Canyon. The western margin of the Shivwits Plateau marks the boundary between the Sonoran/Mojave/Great Basin floristic provinces to the west and south, and the Colorado Plateau province to the northeast. This intersection of these biomes is a distinctive and remarkable feature. Riparian corridors link the plateau to the Colorado River corridor below, allowing wildlife movement and plant dispersal. The Shivwits Plateau is in an arid environment with between 14 to 18 inches of precipitation a year. Giant Mojave Yucca cacti proliferate in undisturbed conditions throughout the monument. Diverse wildlife inhabit the monument, including a trophy-quality mule deer herd, Kaibab squirrels, and wild turkey. There are numerous threatened or endangered species as well, including the Mexican spotted owl, the California condor, the desert tortoise, and the southwestern willow flycatcher. There are also candidate or sensitive species, including the spotted bat, the western mastiff bat, the Townsend's big eared bat, and the goshawk, as well as two federally recognized sensitive rare plant species: Penstemon distans and Rosa stellata. The ponderosa pine ecosystem in the Mt. Trumbull area is a biological resource of scientific interest, which has been studied to gain important insights regarding dendroclimatic reconstruction, fire history, forest structure change, and the long-term persistence and stability of presettlement pine groups.

Section 2 of the Act of June 8, 1906 (34 Stat. 225, 16 U.S.C. 431) authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Grand Canyon-Parashant National Monument:

NOW, THEREFORE, I, WILLIAM J. CLINTON, President of the United States of America, by the authority vested in me by section 2 of the Act of June 8, 1906 (34 Stat. 225, 16 U.S.C. 431), do proclaim that there are hereby set apart and reserved as the Grand Canyon-Parashant National Monument, for the purpose of protecting the objects identified above, all lands and interests in lands owned or controlled by the United States within the boundaries of the area described on the map entitled “Grand Canyon-Parashant National Monument” attached to and forming a part of this proclamation. The Federal land and interests in land reserved consist of approximately 1,014,000 acres, which is the smallest area compatible with the proper care and management of the objects to be protected.

For the purpose of protecting the objects identified above, all motorized and mechanized vehicle use off road will be prohibited, except for emergency or authorized administrative purposes.

Nothing in this proclamation shall be deemed to enlarge or diminish the jurisdiction of the State of Arizona with respect to fish and wildlife management.

The establishment of this monument is subject to valid existing rights.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument. Sale of vegetative material is permitted only if part of an authorized science-based ecological restoration project. Lands and interests in lands within the proposed monument not owned by the United States shall be reserved as a part of the monument upon acquisition of title thereto by the United States.

This proclamation does not reserve water as a matter of Federal law nor relinquish any water rights held by the Federal Government existing on this date. The Federal land managing agencies shall work with appropriate State authorities to ensure that water resources needed for monument purposes are available.

The Secretary of the Interior shall manage the monument through the Bureau of Land Management and the National Park Service, pursuant to applicable legal authorities, to implement the purposes of this proclamation. The National Park Service and the Bureau of Land Management shall manage the monument cooperatively and shall prepare an agreement to share, consistent with applicable laws, whatever resources are necessary to properly manage the monument; however, the National Park Service shall continue to have primary management authority over the portion of the monument within the Lake Mead National Recreation Area, and the Bureau of Land Management shall have primary management authority over the remaining portion of the monument.

The Bureau of Land Management shall continue to issue and administer grazing leases within the portion of the monument within the Lake Mead National Recreation Area, consistent with the Lake Mead National Recreation Area authorizing legislation. Laws, regulations, and policies followed by the Bureau of Land Management in issuing and administering grazing leases on all lands under its jurisdiction shall continue to apply to the remaining portion of the monument.

Nothing in this proclamation shall be deemed to revoke any existing withdrawal, reservation, or appropriation; however, the national monument shall be the dominant reservation. Warning is hereby given to all unauthorized persons not to appropriate, injure, destroy, or remove any feature of this monument and not to locate or settle upon any of the lands thereof.

IN WITNESS WHEREOF, I have hereunto set my hand this eleventh day of January, in the year of our Lord two thousand, and of the Independence of the United States of America the two hundred and twenty-fourth.

wj

Billing code 3195-01-P

[FR Doc. 00-1296

Filed 1-14-00; 10:45 am]

Billing code 3195-01-C